DEPARTMENT OF THE INTERIOR

Fish and Wildlife Service

Notice of Intent To Prepare a Comprehensive Conservation Plan and Environmental Assessment for the Rainwater Basin Wetland Management District, Kearney, NE

AGENCY: Fish and Wildlife Service, Interior.

ACTION: Notice of intent.

SUMMARY: This notice advises that the U.S. Fish and Wildlife Service (Service) intends to gather information necessary to prepare a Comprehensive Conservation Plan (CCP) and associated environmental documents for the Rainwater Basin Wetland Management District (WMD) in south-central Nebraska. The Service is furnishing this notice in compliance with Service CCP policy to advise other agencies and the public of its intentions, and to obtain suggestions and information on the scope of issues to be considered in the planning process.

DATES: Written comments must be received by February 8, 2006.

ADDRESSES: Comments and requests for more information regarding the Rainwater Basin WMD should be sent to Bernardo Garza, Planning Team Leader, Division of Refuge Planning, P.O. Box 25486, Denver Federal Center, Denver, Colorado 80225.

FOR FURTHER INFORMATION CONTACT: Bernardo Garza, Planning Team Leader, Division of Refuge Planning, P.O. Box 25486, DFC, Denver, CO 80225, or Linda Kelly, Chief, Branch of Comprehensive Conservation Planning, P.O. Box 25486, Denver Federal Center, Denver, Colorado 80225.

SUPPLEMENTARY INFORMATION: The Service has initiated the CCP for the Rainwater Basin WMD with headquarters in Kearney, Nebraska.

Each unit of the National Wildlife Refuge System, including this WMD, has specific purposes for which it was established and for which legislation was enacted. Those purposes are used to develop and prioritize management goals and objectives within the National Wildlife Refuge System mission, and to guide which public uses will occur on the WMD. The planning process is a way for the Service and the public to evaluate management goals and objectives for the best possible conservation efforts of this important wildlife habitat, while providing for wildlife-dependent recreation opportunities that are compatible with each WMD's establishing purposes and the mission of the National Wildlife Refuge System.

Rainwater Basin WMD was established in 1963 when the Service began acquiring critical migratory waterfowl habitat in south-central and southeastern Nebraska with Duck Stamp dollars. Today, the Rainwater Basin WMD manages 61 individual tracts of land within the geographic area called the Rainwater Basin. This WMD encompasses a complex of wetlands scattered throughout a 17-county area. The wetlands are shallow basins that provide resting and feeding areas for millions of birds during spring and fall migration. Historically, bison and wildfire kept the wetlands open, with annual plants growing during dry summer months and droughts. With the bison gone and wildfires controlled, management has to be accomplished to keep these wetlands in a condition favored by ducks, geese, and other water birds. Current public use opportunities at this WMD include hunting, wildlife observation and photography.

The Service will conduct a CCP process that will provide an opportunity for Tribal, State, and local governments; agencies; organizations; and the public to participate in issue scoping and public comment. The Service is requesting input for issues, concerns, ideas, and suggestions for the future management of the Rainwater Basin WMD in south-central Nebraska. Anyone interested in providing input is invited to respond to the following three questions.

(1) What makes the Rainwater Basin WMD special or unique for you?

(2) What problems or issues do you want to see addressed in the CCP?

(3) What improvements would you recommend for the Rainwater Basin WMD?

The Service has provided the above questions for your optional use; you are not required to provide information to the Service. The Planning Team developed these questions to facilitate finding out more information about individual issues and ideas concerning the Rainwater Basin WMD. Comments received by the Planning Team will be used as part of the planning process; individual comments will not be referenced in our reports or directly responded to.

An opportunity will be given to the public to provide input at open houses to scope issues and concerns (schedules can be obtained from the Planning Team Leaders at the above addresses). Comments may also be submitted anytime during the planning process by writing to the above addresses. All information provided voluntarily by mail, phone, or at public meetings becomes part of the official public record (i.e., names, addresses, letters of comment, input recorded during meetings). If requested under the Freedom of Information Act by a private citizen or organization, the Service may provide informational copies.

The environmental review of this project will be conducted in accordance with the requirements of the National Environmental Policy Act (NEPA) of 1969, as amended (42 U.S.C. 4321 et seq.); NEPA Regulations (40 CFR 1500-1508); other appropriate Federal laws and regulations; and Service policies and procedures for compliance with those regulations. All comments received from individuals on Service Environmental Assessments and Environmental Impact Statements become part of the official public record. Requests for such comments will be handled in accordance with the Freedom of Information Act, NEPA (40 CFR 1506.6(f)), and other Departmental and Service policy and procedures. When requested, the Service will generally provide comment letters with the names and addresses of the individuals who wrote the comments. However, the telephone number of the commenting individual will not be provided in response to such requests to the extent permissible by law. Additionally, public comment letters are not required to contain the commentator's name, address, or any other identifying information. Such comments may be submitted anonymously to the Service.

Dated: November 17 2005.
Richard A Coleman,
Regional Director, Region 6, Denver, CO.

[FR Doc. E6-57 Filed 1-6-06; 8:45 am]

BILLING CODE 4310-55-P